DEPARTMENT OF LABOR

Employment and Training Administration

Workforce Investment Act; Lower Living Standard Income Level

AGENCY: Employment and Training Administration, Labor.

ACTION: Notice of Determination of Lower Living Standard Income Level.

SUMMARY: Under Title I of the Workforce Investment Act (WIA) of 1998 (Pub. L. 105-220), the Secretary of Labor annually determines the Lower Living Standard Income Level (LLSIL) for uses described in the law. WIA defines the term “Low Income Individual” as one who qualifies under various criteria, including an individual who received income for a six-month period that does not exceed the higher level of the poverty line or 70 percent of the LLSIL. This issuance provides the Secretary's annual LLSIL for 2010 and references the current 2009 Health and Human Services “Poverty Guidelines.” Congress has taken action to keep the 2009 HHS poverty guidelines in effect until at least May 31, 2010.

DATES: Effective Date: This notice is effective on the date of publication in the Federal Register.

ADDRESSES: Send questions about the Lower Living Standard Income Level calculations: Mr. Samuel Wright, Department of Labor, Employment and Training Administration, 200 Constitution Avenue, NW., Room S-4231, Washington, DC 20210.

Send written youth program comments to: Mr. Evan Rosenberg, Department of Labor, Employment and Training Administration, 200 Constitution Avenue, NW., Room N-4464, Washington, DC 20210.

For Further Information on LLSIL: Please contact Mr. Samuel Wright, Telephone 202-693-2870; Fax 202-693-3015 (these are not toll free numbers); e-mail address wright.samuel.e@dol.gov.

For Further Information on Federal Youth Programs: Evan Rosenberg, Telephone 202-693-3593; Fax 202-693-3532 (these are not toll free numbers).

SUPPLEMENTARY INFORMATION: It is the purpose of the Workforce Investment Act of 1998 “to provide workforce investment activities, through statewide and local workforce investment systems, that increase the employment, retention, and earnings of participants, and increase occupational skill attainment by participants, and as a result, improve the quality of the workforce, reduce welfare dependency, and enhance the productivity and competitiveness of the Nation.”

The LLSIL is used for several purposes under WIA. Specifically, WIA Section 101(25) defines the term “low income individual” for eligibility purposes, and Sections 127(b)(2)(C) and 132(b)(1)(B)(v)(IV) define the terms “disadvantaged youth” and “disadvantaged adult” in terms of the poverty line or LLSIL for state formula allotments. The Governor and state/local workforce investment boards (WIBs) use the LLSIL for determining eligibility for youth, eligibility for employed adult workers for certain services and for the Work Opportunity Tax Credit (WOTC). We encourage the Governors and state/local WIBs to consult WIA regulations and the preamble to the WIA Final Rule (published at 65 FR 49294 August 11, 2000) for more specific guidance in applying the LLSIL to program requirements. The Department of Health and Human Services (HHS) published the most current poverty-level guidelines in the Federal Register at 74 FR 4199-4201 on Jan. 23, 2009. The HHS 2009 Poverty guidelines may also be found on the Internet at: http://aspe.hhs.gov/poverty/09fedreg.pdf. ETA plans to have the 2010 LLSIL available on its Web site at [http://www.doleta.gov/llsil/2010/].

WIA Section 101(24) defines the LLSIL as “that income level (adjusted for regional, metropolitan, urban and rural differences and family size) determined annually by the Secretary [of Labor] based on the most recent lower living family budget issued by the Secretary.” The most recent lower living family budget was issued by the Secretary in the fall of 1981. The four-person urban family budget estimates, previously published by the Bureau of Labor Statistics (BLS), provided the basis for the Secretary to determine the LLSIL. BLS terminated the four-person family budget series in 1982, after publication of the fall 1981 estimates. Currently, BLS provides data to ETA through which ETA develops the LLSIL tables, as provided in the Appendices.

ETA published the 2009 updates to the LLSIL in the Federal Register of March 26, 2009, at 74 FR 13262. This notice again updates the LLSIL to reflect cost of living increases for 2009, by applying the percentage change in the most recent 2009 Consumer Price Index for All Urban Consumers (CPI-U) for an area, compared with the 2008 CPI-U to each of the March 26, 2009 LLSIL figures. Those updated figures for a family-of-four are listed in Appendix A, Table 1, by region for both metropolitan and non-metropolitan areas. Figures in all of the accompanying tables, in the Appendices, are rounded up to the nearest dollar. Since low income individuals, “disadvantaged adult” and “disadvantaged youth” may be determined by family income at 70 percent of the LLSIL, pursuant to WIA Sections 101(25), 127(b)(2)(C), and 132(b)(1)(B)(v)(IV), respectively, those figures are listed as well.

Jurisdictions included in the various regions, based generally on Census Divisions of the U.S. Department of Commerce, are as follows:

Northeast

Connecticut

Maine

Massachusetts

New Hampshire

New Jersey

New York

Pennsylvania

Rhode Island

Vermont

Virgin Islands

Midwest

Illinois

Indiana

Iowa

Kansas

Michigan

Minnesota

Missouri

Nebraska

North Dakota

Ohio

South Dakota

Wisconsin

South

Alabama

American Samoa

Arkansas

Delaware

District of Columbia

Florida

Georgia

Northern Marianas

Oklahoma

Palau

Puerto Rico

South Carolina

Kentucky

Louisiana

Marshall Islands

Maryland

Micronesia

Mississippi

North Carolina

Tennessee

Texas

Virginia

West Virginia

West

Arizona

California

Colorado

Idaho

Montana

Nevada

New Mexico

Oregon

Utah

Washington

Wyoming

Additionally, separate figures have been provided for Alaska, Hawaii, and Guam as indicated in Appendix B, Table 2.

For Alaska, Hawaii, and Guam, the year 2009 figures were updated from the April, 2009 “State Index” based on the ratio of the urban change in the state (using Anchorage for Alaska and Honolulu for Hawaii and Guam) compared to the West regional metropolitan change, and then applying that index to the West regional metropolitan change.

Data on 23 selected MSAs are also available. These are based on semiannual CPI-U changes for a 12-month period ending in June 2009. The updated LLSIL figures for these MSAs and 70 percent of the LLSIL are reported in Appendix C, Table 3.

Appendix D, Table 4 lists each of the various figures at 70 percent of the updated 2009 LLSIL for family sizes of one to six persons. Because tables 1-3 only list the LLSIL for a family of four, table 4 can be used to determine the LLSIL for families of one to six persons. For families larger than six persons, an amount equal to the difference between the six-person and the five-person family income levels should be added to the six-person family income level for each additional person in the family. Where the poverty level for a particular family size is greater than the corresponding LLSIL figure, the figure is indicated in parentheses. A modified Excel version of Appendix D, Table 4, with the area names, will be available on the Department of Labor, Employment and Training Administration LLSIL Webpage at [http://www.doleta.gov/llsil/2010/]. Appendix E, Table 5, indicates 100 percent of LLSIL for family sizes of one to six and is used to determine self-sufficiency as noted at 20 CFR 663.230 of the WIA regulations and WIA Section 134(d)(3)(A)(ii).

Use of These Data

Governors should designate the appropriate LLSILs for use within the state from Appendices A, B, and C, containing Tables 1 through 3. Appendices D and E, which contain Tables 4 and 5, which adjusts a family of four figure for larger and smaller families, may be used with any LLSIL designated. The Governor's designation may be provided by disseminating information on MSAs and metropolitan and non-metropolitan areas within the state or it may involve further calculations. For example, the State of New Jersey may have four or more LLSIL figures for Northeast metropolitan, Northeast non-metropolitan, portions of the State in the New York City MSA, and those in the Philadelphia MSA. If a workforce investment area includes areas that would be covered by more than one figure, the Governor may determine which is to be used.

Under 20 CFR 661.110, a state's policies and measures for the workforce investment system shall be accepted by the Secretary to the extent that they are consistent with the WIA and the WIA regulations.

Disclaimer on Statistical Uses

It should be noted, the publication of these figures is only for the purpose of meeting the requirements specified by WIA as defined in the law and regulations. BLS has not revised the lower living family budget since 1981, and has no plans to do so. The four-person urban family budget estimates series has been terminated. The CPI-U adjustments used to update the LLSIL for this publication are not precisely comparable, most notably because certain tax items were included in the 1981 LLSIL, but are not in the CPI-U. Thus, these figures should not be used for any statistical purposes, and are valid only for those purposes under WIA as defined in the law and regulations.

Lower Living Standard Income Level for 2010

Under Title I of the Workforce Investment Act of 1998 (Pub. L. 105-220), the Secretary of Labor annually determines the Lower Living Standard Income Level (LLSIL). This Notice announces the LLSIL Tables for 2010. WIA requires the Department of Labor to update and publish the LLSIL tables annually. The LLSIL tables are used for several purposes under WIA, including determining eligibility for youth and for the Work Opportunity Tax Credit.

Signed at Washington, DC, this 30th day of April 2010.
Jane Oates,
Assistant Secretary, Employment and Training Administration.

Attachments

Appendix A

Table 1—Lower Living Standard Income Level (for a Family of Four Persons) by Region ¹
Region ² | 2010 adjusted LLSIL | 70 percent LLSIL
Northeast:
Metro | $38,759 | $27,131
Non-Metro ³ | 37,060 | 25,942
Midwest:
Metro | 34,161 | 23,913
Non-Metro | 33,026 | 23,118
South:
Metro | 33,043 | 23,130
Non-Metro | 32,318 | 22,623
West:
Metro | 37,471 | 26,230
Non-Metro ⁴ | 35,758 | 25,031
¹ For ease of use, these figures are rounded to the next highest dollar.
² Metropolitan area measures were calculated from the weighted average CPI-Us for city size classes A and B/C. Non-metropolitan area measures were calculated from the CPI-Us for city size class D.
³ Non-metropolitan area percent changes for the Northeast region are no longer available. The Non-metropolitan percent change was calculated using the U.S. average CPI-U for city size class D.
⁴ Non-metropolitan area percent changes for the West region are unpublished data.

Appendix B

Table 2—Lower Living Standard Income Level (for a Family of Four Persons)—Alaska, Hawaii and Guam ¹
Region | 2010 adjusted LLSIL | 70 percent LLSIL
Alaska:
Metro | $45,047 | $31,533
Non-Metro ² | 44,866 | 31,406
Hawaii, Guam:
Metro | 48,432 | 33,902
Non-Metro ² | 47,898 | 33,529
¹ For ease of use, these figures are rounded to the next highest dollar.
² Non-Metropolitan percent changes for Alaska, Hawaii and Guam were calculated from the CPI-Us for city size class D in the Western Region.

Appendix C

Table 3—Lower Living Standard Income Level (for a Family of Four Persons) 23 MSAs ¹
Metropolitan statistical areas (MSAs) | 2010 Adjusted LLSIL | 70 Percent LLSIL
Anchorage, AK | $46,172 | $32,320
Atlanta, GA | 31,353 | 21,947
Boston—Brockton—Nashua, MA/NH/ME/CT | 41,891 | 29,324
Chicago—Gary—Kenosha, IL/IN/WI | 35,821 | 25,075
Cincinnati—Hamilton, OH/KY/IN | 34,327 | 24,029
Cleveland—Akron, OH | 35,129 | 24,590
Dallas—Ft. Worth, TX | 31,646 | 22,152
Denver—Boulder—Greeley, CO | 35,695 | 24,987
Detroit—Ann Arbor—Flint, MI | 32,916 | 23,041
Honolulu, HI | 49,497 | 34,648
Houston—Galveston—Brazoria, TX | 30,562 | 21,393
Kansas City, MO/KS | 33,064 | 23,145
Los Angeles—Riverside—Orange County, CA | 39,521 | 27,665
Milwaukee—Racine, WI | 34,073 | 23,851
Minneapolis—St. Paul, MN/WI | 34,156 | 23,909
New York—Northern NJ—Long Island, NY/NJ/CT/PA | 41,130 | 28,791
Philadelphia—Wilmington—Atlantic City, PA/NJ/DE/MD | 37,407 | 26,185
Pittsburgh, PA | 41,025 | 28,718
St. Louis, MO/IL | 32,268 | 22,588
San Diego, CA | 43,298 | 30,309
San Francisco—Oakland—San Jose, CA | 39,916 | 27,941
Seattle—Tacoma—Bremerton, WA | 40,784 | 28,549
Washington—Baltimore, DC/MD/VA/WV ² | 41,669 | 29,168
¹ For ease of use, these figures are rounded to the next highest dollar.
² Baltimore and Washington are now calculated as a single metropolitan statistical area.

Appendix D

Table 4—Seventy Percent of Updated 2010 Lower Living Standard Income Level (LLSIL), by Family Size

To use the seventy percent LLSIL value, where it is stipulated for WIA programs, begin by locating the region or metropolitan area where they reside. These are listed in Tables 1, 2 and 3. After locating the appropriate region or metropolitan statistical area, find the seventy percent LLSIL amount for that location. The seventy percent LLSIL figures are listed in the last column to the right on each of the three tables. These figures apply to a family of four. Larger and smaller family eligibility is based on a percentage of the family of four. To determine eligibility for other size families consult Table 4 and the instructions below.

To use Table 4, locate the seventy percent LLSIL value that applies to the individual's region or metropolitan area from Tables 1, 2 or 3. Find the same number in the “family of four” column of Table 4. Move left or right across that row to the size that corresponds to the individual's family unit. That figure is the maximum household income the individual is permitted in order to qualify as economically disadvantaged under WIA.

Where the HHS poverty level for a particular family size is greater than the corresponding LLSIL figure, the LLSIL figure appears in a shaded block. Individuals from these size families may consult the 2009 HHS poverty guidelines found in the Federal Register, Vol. 74, No. 14, January 23, 2009, pp. 4199-4201 (on the Internet at http://aspe.hhs.gov/poverty/09fedreg.htm) to find the higher eligibility standard. Individuals from Alaska and Hawaii should consult the HHS guidelines for the generally higher poverty levels that apply in their states.

Family of one | Family of two | Family of three | Family of four | Family of five | Family of six
7,708 | 12,628 | 17,332 | 21,393 | 25,248 | 29,527
7,902 | 12,951 | 17,784 | 21,947 | 25,901 | 30,289
7,980 | 13,077 | 17,949 | 22,152 | 26,146 | 30,575
8,138 | 13,332 | 18,299 | 22,588 | 26,657 | 31,172
8,151 | 13,353 | 18,326 | 22,623 | 26,697 | 31,222
8,298 | 13,595 | 18,667 | 23,041 | 27,190 | 31,796
8,329 | 13,644 | 18,730 | 23,118 | 27,287 | 31,910
8,331 | 13,650 | 18,736 | 23,130 | 27,299 | 31,928
8,331 | 13,658 | 18,753 | 23,145 | 27,314 | 31,944
8,587 | 14,074 | 19,322 | 23,851 | 28,148 | 32,918
8,611 | 14,110 | 19,372 | 23,909 | 28,218 | 33,000
8,609 | 14,112 | 19,370 | 23,913 | 28,217 | 33,006
8,653 | 14,183 | 19,469 | 24,029 | 28,358 | 33,163
8,854 | 14,515 | 19,921 | 24,590 | 29,021 | 33,936
8,999 | 14,747 | 20,245 | 24,987 | 29,486 | 34,486
9,013 | 14,770 | 20,279 | 25,031 | 29,541 | 34,550
9,028 | 14,800 | 20,311 | 25,075 | 29,593 | 34,610
9,342 | 15,312 | 21,020 | 25,942 | 30,617 | 35,801
9,431 | 15,453 | 21,213 | 26,185 | 30,904 | 36,138
9,443 | 15,476 | 21,247 | 26,230 | 30,951 | 36,201
9,771 | 16,014 | 21,978 | 27,131 | 32,020 | 37,444
9,960 | 16,322 | 22,409 | 27,665 | 32,645 | 38,182
10,064 | 16,491 | 22,633 | 27,941 | 32,974 | 38,564
10,284 | 16,846 | 23,128 | 28,549 | 33,692 | 39,400
10,344 | 16,950 | 23,267 | 28,718 | 33,893 | 39,635
10,366 | 16,991 | 23,321 | 28,791 | 33,974 | 39,738
10,505 | 17,216 | 23,631 | 29,168 | 34,425 | 40,261
10,559 | 17,303 | 23,759 | 29,324 | 34,607 | 40,468
10,917 | 17,884 | 24,555 | 30,309 | 35,768 | 41,832
11,311 | 18,530 | 25,442 | 31,406 | 37,062 | 43,341
11,358 | 18,606 | 25,546 | 31,533 | 37,212 | 43,522
11,641 | 19,076 | 26,183 | 32,320 | 38,146 | 44,604
12,074 | 19,787 | 27,161 | 33,529 | 39,565 | 46,271
12,212 | 20,005 | 27,466 | 33,902 | 40,008 | 46,792
12,478 | 20,444 | 28,065 | 34,648 | 40,886 | 47,821

Appendix E

Table 5—Updated 2010 LLSIL (100%), By Family Size

To use the LLSIL to determine the minimum level for establishing self-sufficiency criteria at the state or local level, begin by locating the metropolitan area or region from Table 1, 2 or 3. Then locate the appropriate region or metropolitan statistical area and then find the 2010 Adjusted LLSIL amount for that location. These figures apply to a family of four. Locate the corresponding number in the family of four in the column below. Move left or right across that row to the size that corresponds to the individual's family unit. That figure is the minimum figure States must set for determining whether employment leads to self-sufficiency under WIA programs.

Family of one | Family of two | Family of three | Family of four | Family of five | Family of six
$11,011 | $18,040 | $24,760 | $30,562 | $36,069 | $42,182
11,289 | 18,501 | 25,406 | 31,353 | 37,002 | 43,270
11,400 | 18,681 | 25,641 | 31,646 | 37,352 | 43,678
11,625 | 19,045 | 26,142 | 32,268 | 38,081 | 44,531
11,644 | 19,075 | 26,180 | 32,318 | 38,139 | 44,603
11,854 | 19,421 | 26,667 | 32,916 | 38,843 | 45,423
11,899 | 19,491 | 26,757 | 33,026 | 38,981 | 45,586
11,901 | 19,500 | 26,765 | 33,043 | 38,999 | 45,611
11,902 | 19,511 | 26,790 | 33,064 | 39,020 | 45,634
12,267 | 20,106 | 27,603 | 34,073 | 40,211 | 47,025
12,301 | 20,157 | 27,674 | 34,156 | 40,312 | 47,143
12,299 | 20,160 | 27,671 | 34,161 | 40,310 | 47,151
12,361 | 20,261 | 27,813 | 34,327 | 40,511 | 47,375
12,649 | 20,736 | 28,459 | 35,129 | 41,459 | 48,480
12,856 | 21,067 | 28,922 | 35,695 | 42,123 | 49,265
12,875 | 21,100 | 28,970 | 35,758 | 42,201 | 49,357
12,897 | 21,143 | 29,015 | 35,821 | 42,275 | 49,443
13,345 | 21,874 | 30,028 | 37,060 | 43,739 | 51,144
13,473 | 22,075 | 30,304 | 37,407 | 44,149 | 51,625
13,490 | 22,108 | 30,353 | 37,471 | 44,216 | 51,716
13,958 | 22,877 | 31,397 | 38,759 | 45,743 | 53,491
14,229 | 23,317 | 32,013 | 39,521 | 46,636 | 54,546
14,377 | 23,558 | 32,333 | 39,916 | 47,105 | 55,092
14,692 | 24,065 | 33,040 | 40,784 | 48,131 | 56,285
14,777 | 24,214 | 33,238 | 41,025 | 48,418 | 56,622
14,809 | 24,273 | 33,316 | 41,130 | 48,534 | 56,769
15,007 | 24,594 | 33,758 | 41,669 | 49,179 | 57,515
15,084 | 24,719 | 33,941 | 41,891 | 49,438 | 57,811
15,596 | 25,548 | 35,078 | 43,298 | 51,097 | 59,760
16,159 | 26,472 | 36,346 | 44,866 | 52,945 | 61,916
16,225 | 26,580 | 36,494 | 45,047 | 53,160 | 62,174
16,630 | 27,252 | 37,404 | 46,172 | 54,494 | 63,720
17,249 | 28,267 | 38,801 | 47,898 | 56,522 | 66,102
17,445 | 28,578 | 39,237 | 48,432 | 57,154 | 66,845
17,826 | 29,205 | 40,093 | 49,497 | 58,409 | 68,316

[FR Doc. 2010-10794 Filed 5-6-10; 8:45 am]

BILLING CODE 4510-FT-P